DEPARTMENT OF HEALTH AND HUMAN SERVICES

Centers for Medicare and Medicaid Services

[Document Identifier: CMS-382, CMS-10003 and CMS-10098]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: ESRD Beneficiary Selection and Supporting Regulations in 42 CFR 414.330; Form No.: CMS-382 (OMB# 0938-0372); Use: ESRD facilities have each new home dialysis patient select one of two methods to handle Medicare reimbursement. The intermediaries pay for the beneficiaries selecting Method I and the carriers pay for the beneficiaries selecting Method II. This system was developed to avoid duplicate billing by both intermediaries and carriers; Frequency: Other: One-time only; Affected Public: Individuals or households, business or other for-profit, not-for-profit institutions; Number of Respondents: 7,400; Total Annual Responses: 7,400; Total Annual Hours: 617.

2. Type of Information Collection Request: Extension of a currently approved collection; Title of Information Collection: Medicare+Choice Appeals Notices, “Notice of Denial of Medical Coverage”, “Notice of Denial Payment”; Form No.: CMS-10003 (OMB# 0938-0829); Use: Section 1852(g)(1)(B) requires M+C organizations to provide determinations to deny coverage (i.e., medical services or payment) in writing and include a statement in understandable language of the reasons for the denial and a description of the reconsideration and appeals processes.

These notices fulfill the statutory requirement.; Frequency: On occasion and other: distrubution; Affected Public: Individuals or households, business or other for-profit, not-for-profit institutions; Number of Respondents: 71,411; Total Annual Responses: 71,411; Total Annual Hours: 78,290.

3. Type of Information Collection Request: New Collection; Title of Information Collection: 1-800-Medicare Beneficiary Satisfaction Survey; Form No.: CMS-10098 (OMB# 0938-NEW); Use: The Beneficiary Satisfaction survey is performed to insure that the CMS 1-800-Medicare helpline contractor is delivering satisfactory service to the Medicare beneficiaries. It gathers data on several helpline operations such as print fulfillment and Web site tools hosted on http://www.medicare.gov. Respondents to the survey are Medicare beneficiaries that have contacted the 1-800-Medicare number within the past week for benefits and services information.; Frequency: On occasion; Affected Public: Individuals or households; Number of Respondents: 14,400; Total Annual Responses: 14,400; Total Annual Hours: 1,200.

To obtain copies of the supporting statement and any related forms for the proposed paperwork collections referenced above, access CMS's Web site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Melissa Musotto, Room C5-14-03, 7500 Security Boulevard, Baltimore, Maryland 21244-1850.

Dated: November 13, 2003.
Julie Brown,
CMS Reports Clearance Officer, Office of Strategic Operations and Strategic Affairs, Division of Regulations Development and Issuances.

[FR Doc. 03-29138 Filed 11-20-03; 8:45 am]

BILLING CODE 4120-03-P